DEPARTMENT OF THE INTERIOR

National Park Service

[NPS-WASO-NAGPRA-NPS0030726; PPWOCRADN0-PCU00RP14.R50000]

Notice of Inventory Completion: Tennessee Valley Authority, Knoxville, TN

AGENCY: National Park Service, Interior.

ACTION: Notice.

SUMMARY: The Tennessee Valley Authority (TVA) has completed an inventory of associated funerary objects in consultation with the appropriate Indian Tribes or Native Hawaiian organizations, and has determined that there is no cultural affiliation between the associated funerary objects and any present-day Indian Tribes or Native Hawaiian organizations. Representatives of any Indian Tribe or Native Hawaiian organization not identified in this notice that wish to request transfer of control of these associated funerary objects should submit a written request to the TVA. If no additional requestors come forward, transfer of control of the associated funerary objects to the Indian Tribes or Native Hawaiian organizations stated in this notice may proceed.

DATES: Representatives of any Indian Tribe or Native Hawaiian organization not identified in this notice that wish to request transfer of control of these associated funerary objects should submit a written request with information in support of the request to the TVA at the address in this notice by October 8, 2020.

ADDRESSES: Dr. Thomas O. Maher, Tennessee Valley Authority, 400 West Summit Hill Drive, WT11C, Knoxville, TN 37902-1401, telephone (865) 632-7458, email tomaher@tva.gov.

SUPPLEMENTARY INFORMATION: Notice is here given in accordance with the Native American Graves Protection and Repatriation Act (NAGPRA), 25 U.S.C. 3003, of the completion of an inventory of associated funerary objects under the control of Tennessee Valley Authority, Knoxville, TN. The associated funerary objects were removed from archeological sites in Marshall County, AL.

This notice is published as part of the National Park Service's administrative responsibilities under NAGPRA, 25 U.S.C. 3003(d)(3) and 43 CFR 10.11(d). The determinations in this notice are the sole responsibility of the museum, institution, or Federal agency that has control of the associated funerary objects. The National Park Service is not responsible for the determinations in this notice.

Consultation

A detailed assessment of the associated funerary objects was made by TVA professional staff in consultation with representatives of the Absentee-Shawnee Tribe of Oklahoma; Alabama-Coushatta Tribe of Texas (previously listed as Alabama-Coushatta Tribes of Texas); Cherokee Nation; Coushatta Tribe of Louisiana; Eastern Band of Cherokee Indians; Poarch Band of Creeks (previously listed as Poarch Band of Creek Indians of Alabama); The Chickasaw Nation; The Choctaw Nation of Oklahoma; The Muscogee (Creek) Nation; The Seminole Nation of Oklahoma; and the United Keetoowah Band of Cherokee Indians in Oklahoma (hereafter referred to as “The Consulted Tribes”).

History and Description of the Associated Funerary Objects

The three sites listed in this notice—1MS80, 1MS147, and 1MS91—were excavated as part of TVA's Guntersville Reservoir project by the Alabama Museum of Natural History (AMNH) at the University of Alabama, using labor and funds provided by the Works Progress Administration. Details regarding the excavation of these sites may be found in “An Archaeological Survey of Guntersville Basin on the Tennessee River in Northern Alabama,” a report by William S. Webb and Charles G. Wilder. The associated funerary objects listed in this notice have been in the physical custody of the AMNH at the University of Alabama since they were excavated.

Human remains and associated funerary objects from sites 1MS80 and 1MS147 were listed in a Notice of Inventory Completion published in the Federal Register on May 3, 2019 (84 FR 19111-19113, May 3, 2019), and human remains and associated funerary objects from site 1MS91 were listed in a Notice of Inventory Completion in the Federal Register on September 16, 2016 (81 FR 63793-63795, September 16, 2016). Pursuant to 43 CFR 10.11(c)(2)(i), all the cultural items listed in those notices have been transferred to the Alabama-Coushatta Tribe of Texas (previously listed as Alabama-Coushatta Tribes of Texas); Alabama-Quassarte Tribal Town; Coushatta Tribe of Louisiana; and The Muscogee (Creek) Nation. Recently, five additional associated funerary objects removed from these three sites were discovered during the improvement of the curation of TVA's archeological collection at AMNH.

From June to October 1938, excavation took place at the Harris site, 1MS80, in Marshall County, AL, following TVA's purchase of the site on January 26, 1937. This shell-midden site was excavated through trenches and horizontal blocks. Although there are no radiocarbon dates from this site, artifacts from the excavation suggest occupations during the Copena (A.D. 100-500), Flint River (A.D. 500-1000), and Henry Island (A.D. 1200-1500) phases. The one associated funerary object is a sandstone geode. The human remains with which it is associated could not be assigned to a specific occupation.

From June 1938 to May 1939, excavation took place at the Columbus City Landing site, 1MS91, northeast of the city of Guntersville, in Marshall County, AL, following TVA's purchase of the site on March 8, 1937. Both the village (Unit I) and adjacent mounds (Unit II) were investigated. Artifacts recovered from this excavation revealed that the primary occupations date to the Middle Woodland (A.D. 100-500), Mississippian (A.D. 1200-1500), and historic periods. The three associated funerary objects are three Baytown Plain sherds that were removed from burial 58, in Unit II. The human remains with which they are associated could not be assigned to a specific occupation.

From January to March 1940, excavation took place at the McDonald site, 1MS147, in Marshall County, AL, following TVA's acquisition of the site on August 5, 1938. This site was composed of both a village and a mound. Although there are no radiocarbon dates from this site, the artifacts indicate that it was primarily occupied during the Copena phase (A.D. 100-500). The one associated funerary object is a Hamilton projectile point that was removed from burial 7. The human remains with which it is associated could not be assigned to a specific occupation.

Determinations Made by the Tennessee Valley Authority

Officials of the Tennessee Valley Authority have determined that:

• Pursuant to 25 U.S.C. 3001(3)(A), the five objects described in this notice are reasonably believed to have been placed with or near individual human remains at the time of death or later as part of the death rite or ceremony.

• Pursuant to 25 U.S.C. 3001(2), a relationship of shared group identity cannot be reasonably traced between the associated funerary objects and any present-day Indian Tribe.

• According to final judgments of the Indian Claims Commission or the Court of Federal Claims, the land from which the associated funerary objects were removed is the aboriginal land of the Cherokee Nation; Eastern Band of Cherokee Indians; and the United Keetoowah Band of Cherokee Indians in Oklahoma. The Cherokee Nation; Eastern Band of Cherokee Indians; and the United Keetoowah Band of Cherokee Indians in Oklahoma have declined to accept transfer of control of these cultural items.

• Pursuant to 43 CFR 10.11(c)(4), the Tennessee Valley Authority has agreed to transfer control of the associated funerary objects to the Alabama-Coushatta Tribe of Texas (previously listed as Alabama-Coushatta Tribes of Texas); Alabama-Quassarte Tribal Town; Coushatta Tribe of Louisiana; and The Muscogee (Creek) Nation.

Additional Requestors and Disposition

Representatives of any Indian Tribe or Native Hawaiian organization not identified in this notice that wish to request transfer of control of the associated funerary objects should submit a written request with information in support of the request to Dr. Thomas O. Maher, Tennessee Valley Authority, 400 West Summit Hill Drive, WT11C, Knoxville, TN 37902-1401, telephone (865) 632-7458, email tomaher@tva.gov, by October 8, 2020. After that date, if no additional requestors have come forward, transfer of control of the associated funerary objects to the Alabama-Coushatta Tribe of Texas (previously listed as Alabama-Coushatta Tribes of Texas); Alabama-Quassarte Tribal Town; Coushatta Tribe of Louisiana; and The Muscogee (Creek) Nation may proceed.

The Tennessee Valley Authority is responsible for notifying The Consulted Tribes that this notice has been published.

Dated: August 3, 2020.
Melanie O'Brien,
Manager, National NAGPRA Program.

[FR Doc. 2020-19693 Filed 9-4-20; 8:45 am]

BILLING CODE 4312-52-P